NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by January 3, 2018. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2018-016

1. Applicant: Daniel Costa, Ecology and Evolutionary Biology Department, University of California Santa Cruz, 115 McAllister Way, Santa Cruz, CA 95062.

Activity for Which Permit is Requested: Take, Harmful Interference, Enter Antarctic Specially Protected Areas, Import into USA. The applicant proposes to study the foraging behavior, habitat utilization, and physiology of leopard seals, and potentially additional Antarctic seal species, near Cape Shirreff in the Antarctic Peninsula. Additional seal species could include: Crabeater seals, Weddell seals, Antarctic fur seals, Ross seals, and southern elephant seals. The applicant would capture and tag 10-15 seals of each species, in each of three field seasons. Seals would be sedated and anesthetized during tagging and biological sample collection procedures. The tags to be attached to the seals with marine epoxy include a combined time-depth recorder and GPS receiver and a separate VHF radio tag. Other procedures would include: Flipper tagging, dye marking, collecting blood samples, measuring blood volume, measuring girth and length, and determining body composition by morphometric measurements. These procedures are currently authorized under National Marine Fisheries Service Marine Mammal Protection Act Permit No. 19439.

Location: ASPA 149, Cape Shirreff, Livingston Island, South Shetland Islands, Antarctic Peninsula.

Dates of Permitted Activities: January 1, 2018-June 1, 2020.

Permit Application: 2018-028

2. Applicant: Alexander Simms, University of California Santa Barbara, 1006 Webb Hall, Santa Barbara, CA 93106.

Activity for Which Permit is Requested: Enter Antarctic Specially Protected Area (ASPA). The applicant proposes to enter ASPA 126, Byers Peninsula, Livingston Island, to survey beach ridges using GPS and ground-penetrating radar as well as collecting small sediment samples. The applicant would camp on-site for approximately two weeks while conducting the proposed research. The applicant and agents would adhere to the ASPA management plan.

Location: ASPA 126, Byers Peninsula, Livingston Island, South Shetland Islands, Antarctica.

Dates of Permitted Activities: February 15, 2018-April 1, 2020.

Nadene G. Kennedy,
Polar Coordination Specialist, Office of Polar Programs.

[FR Doc. 2017-26030 Filed 12-1-17; 8:45 am]

BILLING CODE 7555-01-P